FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 10, 2018.

A. Federal Reserve Bank of Cleveland (Nadine Wallman, Vice President) 1455 East Sixth Street, Cleveland, Ohio 44101-2566. Comments can also be sent electronically to Comments.applications@clev.frb.org:

1. The Richard F. McCready, Jr. Maximum United Credit Trust, Jane Houston McCready, Trustee, Winchester, Kentucky, Sarah McCready Boston, Trustee and Louise F. McCready Hart, Trustee, both of New York, New York; to join the McCready family group, a group acting in concert, to acquire shares of WinFirst Financial Corporation, Winchester, Kentucky, and thereby acquire shares of Winchester Federal Bank, Winchester, Kentucky.

B. Federal Reserve Bank of Dallas (Robert L. Triplett III, Senior Vice President) 2200 North Pearl Street, Dallas, Texas 75201-2272:

1. Arthur Haag Sherman, the Sherman 2018 Irrevocable Trust, Sherman Tectonic FLP LP, and Sherman Family Holdings LLC, all of Houston, Texas; as a group acting in concert, to acquire shares of T Acquisition, Inc., and thereby indirectly acquire T Bank, National Association, both of Dallas, Texas.

Board of Governors of the Federal Reserve System, November 20, 2018.
Yao-Chin Chao,
Assistant Secretary of the Board.

[FR Doc. 2018-25676 Filed 11-23-18; 8:45 am]

BILLING CODE P